NUCLEAR REGULATORY COMMISSION

[NRC-2011-0061]

Biweekly Notice; Applications and Amendments to Facility Operating Licenses Involving No Significant Hazards Considerations

I. Background

Pursuant to section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from February 24, 2011, to March 9, 2011. The last biweekly notice was published on March 8, 2011 (76 FR 12763).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1 F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1 F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1 F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Dominion Nuclear Connecticut Inc., et al., Docket No. 50-423, Millstone Power Station, Unit No. 3, New London County, Connecticut

Date of amendment request: July 21, 2010.

Description of amendment request: The amendment would relocate Millstone Power Station, Unit No. 3 (MPS3) Technical Specification (TS) 3/4.7.14, “Area Temperature Monitoring,” and the associated Table 3.7-6, “Area Temperature Monitoring,” to the MPS3 Technical Requirements Manual (TRM).

Basis for proposed no significant hazards consideration determination: As required by 10 CFR 50.91(a), the licensee has provided its analysis of the issue of no significant hazards consideration, which is presented below:

Criterion 1

Will operation of the facility in accordance with the proposed change involve a significant increase in the probability or consequences of an accident previously evaluated?

Response: No.

The provisions of TS 3/4.7.14 for area temperature monitoring of the TS specified or selected areas are neither part of an initial condition of a design basis accident or transient that either assumes the failure of or presents a challenge to the integrity of a fission product barrier, nor are they relied upon as a primary success path to mitigate such events. The provisions for area temperature monitoring are not related to events which are considered frequent or dominant contributors to plant risk. Area temperature monitoring is not considered a design feature or an operating restriction which is an initial condition of a design basis accident or transient analysis, nor does it provide a function or actuate any accident mitigation feature in order to mitigate the consequences of a design basis accident or transient.

The environmental qualification and operability of the safety-related equipment will not be adversely affected by the proposed changes to the area temperature monitoring program. The relocation of the TS to the TRM will not increase the probability that the area temperature design limits will be exceeded or result in a loss of qualified life of safety-related equipment. In addition, the consequences of exceeding the temperature limits will not significantly differ from the existing program since an evaluation of qualified life and operability will continue to be performed as part of the EQ [Environmental Qualification] program in accordance with the requirements of 10 CFR 50.49 [Title 10 of the Code of Federal Regulations, Section 50.49].

Relocating TS 3/4.7.14 to the TRM will still provide adequate controls for area temperature monitoring in those areas designated in TS Table 3.7-6. Changes to the TRM require 10 CFR 50.59 safety evaluations and are reviewed and approved by the Facility Safety Review Committee prior to implementation.

Based on the reasons presented above, operation of the facility in accordance with the proposed amendment would not involve a significant increase in the probability or consequences of an accident previously evaluated.

Criterion 2

Will operation of the facility in accordance with this proposed change create the possibility of a new or different kind of accident from any accident previously evaluated?

Response: No.

The proposed change will not create the possibility of a new or different kind of accident from any accident previously evaluated. No new accident will be created as a result of relocating TS 3/4.7.14 to the TRM. This change is administrative in nature and does not change the level of programmatic and procedural control necessary to assure operation of the facility in a safe manner. Plant operation will not be affected by the proposed change and no new failure modes will be created.

Therefore, the proposed change does not create the possibility of a new or different kind of accident from any previously evaluated.

Criterion 3

Will operation of the facility in accordance with this proposed change involve a significant reduction in [a] margin of safety?

Response: No.

There is no adverse impact on equipment design or operation and there are no changes being made to the TS required safety limits or safety system settings that would adversely affect plant safety. The proposed change is administrative in nature and does not change the level of programmatic and procedural control necessary to ensure that environmentally qualified equipment will not be exposed to temperatures beyond that which they were originally qualified. The relocated requirements will continue to ensure that environmental qualification temperature limits of safety-related equipment will not be exceeded without an evaluation of equipment operability; therefore, the margin of safety is unchanged.

The NRC staff has reviewed the licensee's analysis, and has the following comments regarding the licensee's analysis of Criterion 1:

While DNC accurately states that the temperature monitoring of the TS identified areas is not part of an initial condition of a design basis accident, some of the TS identified areas have temperatures limits that are initial conditions assumed in selected accident analyses. The proposed change relocates TS 3/4.7.14 to the TRM, thereby changing the administrative controls and regulatory process used to modify the requirements of this former TS.

The proposed change dose not revise the station design, the response of the station to transients nor the manner in which the station is operated; therefore, these changes have no adverse affect on the safe operation of the station.

Based on the NRC staff's review of the licensee's analysis and the additional analysis performed by the NRC staff, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: Harold K. Chernoff.

Nine Mile Point Nuclear Station, LLC, (NMPNS) Docket No. 50-220, Nine Mile Point Nuclear Station Unit No. 1 (NMP1), Oswego County, New York

Date of amendment request: November 2, 2010, as supplemented January 27, 2011.

Description of amendment request: The proposed amendment would revise Technical Specification (TS) Section 3.6.2, “Protective Instrumentation,” by modifying the operability requirements for the average power range monitoring (APRM) instrumentation system. The proposed amendment would eliminate the requirements that the APRM “Upscale” and “Inoperative” scram and control rod withdrawal block functions be operable when the reactor mode switch is in the Refuel position, and would clarify the operability requirements for the APRM “Downscale” control rod withdrawal block function when the reactor mode switch is in the Startup and Refuel positions.

Basis for proposed no significant hazards consideration determination: As required by 10 CFR 50.91(a), the licensee has provided its analysis of the issue of no significant hazards consideration, which is presented below:

1. Does the proposed amendment involve a significant increase in the probability or consequences of an accident previously evaluated?

Response: No.

The APRM system is not an initiator of or a precursor to any accident or transient. The APRM system monitors the neutron flux level in the power operating range from a few percent to greater than rated thermal power and provides automatic protective signals for postulated at-power reactivity insertion events. Thus, the proposed changes to the TS operability requirements for the APRM system will not significantly impact the probability of any previously evaluated accident.

The design of plant equipment is not being modified by the proposed amendment. The TSs will continue to require operability of the APRM system “Upscale” and “Inoperative” scram and control rod withdrawal block functions when the reactor mode switch is in the Startup and Run positions to provide core protection for postulated reactivity insertion events occurring during power operating conditions. Thus, the consequences of previously evaluated at-power reactivity insertion events are not affected by the proposed amendment.

The proposed elimination of the TS requirements that the APRM system “Upscale” and “Inoperative” scram and control rod withdrawal block functions be operable when the reactor mode switch is in the Refuel position does not increase the consequences of an accident previously evaluated. The NMP1 Updated Final Safety Analysis Report (UFSAR) does not provide analyses of reactivity insertion events occurring during the refueling operating condition. The possibility of inadvertent criticality due to a control rod withdrawal error during refueling is minimized by design features and procedural controls that are not affected by the proposed amendment. In addition, since reactor neutron flux levels during refueling are below the APRM indicating range, the APRM system does not provide any meaningful core monitoring or protection in the refueling operating condition. The source range and intermediate range neutron monitoring systems provide adequate neutron flux monitoring during refueling and automatically initiate protective actions (scram or control rod withdrawal block) when required during refueling.

The change to the TS operability requirements for the APRM “Downscale” control rod withdrawal block function is a clarification to more simply and clearly indicate that this function is not required when the reactor mode switch is in the Startup and Refuel positions. This change is consistent with plant design and does not change the actual TS operability requirements; thus, previously evaluated accidents are not affected by this proposed change.

Based on the above discussion, it is concluded that the proposed amendment does not involve a significant increase in the probability or consequences of an accident previously evaluated.

2. Does the proposed amendment create the possibility of a new or different kind of accident from any accident previously evaluated?

Response: No.

The proposed changes to the TS operability requirements for the APRM system do not introduce any new accident precursors and do not involve any physical plant alterations or changes in the methods governing normal plant operation that could initiate a new or different kind of accident. The proposed amendment does not alter the intended function of the APRM system and does not adversely affect the ability of the system to provide core protection for at-power reactivity insertion events.

Therefore, the proposed amendment does not create the possibility of a new or different kind of accident from any accident previously evaluated.

3. Does the proposed amendment involve a significant reduction in a margin of safety?

Response: No.

Margin of safety is related to confidence in the ability of the fission product barriers (fuel cladding, reactor coolant system, and primary containment) to perform their design functions during and following postulated accidents. The proposed amendment does not alter setpoints or limits established or assumed by the accident analyses. The proposed TS changes to eliminate the requirements that the APRM system “Upscale” and “Inoperative” scram and control rod withdrawal block functions be operable when the reactor mode switch is in the Refuel position have no impact on the performance of the fission product barriers since these APRM functions do not provide any meaningful core monitoring or protection in the Refueling operating condition. The TSs will continue to require operability of these APRM functions when the reactor mode switch is in the Startup and Run positions to provide core protection for postulated reactivity insertion events occurring during power operating conditions, consistent with the plant safety analyses.

The change to the TS operability requirements for the APRM “Downscale” control rod withdrawal block function is a clarification to more simply and clearly indicate that this function is not required when the reactor mode switch is in the Startup and Refuel positions. This change is consistent with plant design and does not change the actual TS operability requirements; thus, previously evaluated accidents are not affected by this proposed change.

Based on the above discussion, it is concluded that the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Carey W. Fleming, Senior Counsel, Constellation Energy Nuclear Group, LLC, 100 Constellation Way, Suite 200C, Baltimore, MD 21202.

NRC Branch Chief: Nancy L. Salgado.

Northern States Power Company—Minnesota, Docket Nos. 50-282 and 50-306, Prairie Island Nuclear Generating Plant, Units 1 and 2, Goodhue County, Minnesota

Date of amendment request: February 4, 2011.

Description of amendment request: The proposed amendments would revise the Technical Specifications (TS) to make administrative changes which will: (1) in TS Section 5.2.1, allow certain requirements of onsite and offsite organizations to be documented in the Quality Assurance Topical Report (QATR); and (2) in TS Section 5.3, remove reference to specific education and experience requirements for operator license applicants.

Basis for proposed no significant hazards consideration determination: As required by 10 CFR 50.91(a), the licensee has provided its analysis of the issue of no significant hazards consideration, which is presented below:

1. Does the proposed amendment involve a significant increase in the probability or consequences of an accident previously evaluated?

Response: No

This license amendment request proposes to (1) revise Technical Specification 5.2.1(a) by addition of the Quality Assurance Topical Report (QATR) as an allowed location for documentation of requirements for lines of authority, responsibility, and communication; and (2) revise Technical Specification 5.3.1 by removal of an exception for operator license applicants' education and experience requirements, and the reference to a letter which references a specific industry guidance document. These are administrative changes.

The proposed changes are administrative and therefore do not significantly affect any system that is a contributor to initiating events for previously evaluated accidents. Nor do the changes significantly affect any system that is used to mitigate any previously evaluated accidents. Therefore, the proposed changes do not involve a significant increase in the probability or consequence of an accident previously evaluated.

2. Does the proposed amendment create the possibility of a new or different kind of accident from any accident previously evaluated?

Response: No.

This license amendment request proposes to (1) revise Technical Specification 5.2.1(a) by addition of the Quality Assurance Topical Report (QATR) as an allowed location for documentation of requirements for lines of authority, responsibility, and communication; and (2) revise Technical Specification 5.3.1 by removal of an exception for operator license applicants' education and experience requirements, and the reference to a letter which references a specific industry guidance document. These are administrative changes.

The proposed administrative changes do not alter the design, function, or operation of any plant component, nor do they involve installation of any new or different equipment. Therefore, the possibility of a new or different kind of accident from those previously evaluated has not been created.

3. Does the proposed amendment involve a significant reduction in a margin of safety?

Response: No.

This license amendment request proposes to (1) revise Technical Specification 5.2.1(a) by addition of the Quality Assurance Topical Report (QATR) as an allowed location for documentation of requirements for lines of authority, responsibility, and communication; and (2) revise Technical Specification 5.3.1 by removal of an exception for operator license applicants' education and experience requirements, and the reference to a letter which references a specific industry guidance document. These are administrative changes.

The proposed changes are administrative and therefore do not involve a significant reduction in a margin of safety.

The NRC staff has reviewed the licensee's analysis and, based on this review, it appears that the three standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401

NRC Branch Chief: Robert J. Pascarelli.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

NextEra Energy Seabrook, LLC, Docket No. 50-443, Seabrook Station, Unit No. 1, Rockingham County, New Hampshire.

Date of application for amendments: January 27, 2011.

Brief description of amendment request: The proposed amendment would modify Technical Specification (TS) 6.7.6.k, “Steam Generator,” and TS 6.8.1.7, “Steam Generator Tube Inspection Report,” to allow implementation of alternate repair criteria.

Date of publication of individual notice in Federal Register: March 1, 2011 (FR 76 11291).

Expiration date of individual notice: March 31, 2011 (public comments) and May 2, 2011 (hearing requests).

Notice of Issuance of Amendments to Facility Operating Licenses

During the period since publication of the last biweekly notice, the Commission has issued the following amendments. The Commission has determined for each of these amendments that the application complies with the standards and requirements of Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland 20850-2738. Publicly available records will be accessible from the ADAMS Public Electronic Reading Room on the internet at the NRC Web site, http://www.nrc.gov/reading-rm/adams.html. If you do not have access to ADAMS or if there are problems in accessing the documents located in ADAMS, contact the PDR Reference staff at 1-800-397-4209, 301-415-4737 or by e-mail to pdr.resource@nrc.gov.

Carolina Power and Light Company, Docket No. 50-261, H. B. Robinson Steam Electric Plant, Unit No. 2, Darlington County, South Carolina

Date of application for amendment: March 5, 2010, as supplemented November 1, 2010.

Brief description of amendment: The amendment revised Technical Specifications (TS) Section 3.3.2, “Engineered Safety Feature Actuation System (ESFAS) Instrumentation,” to allow the performance of maintenance activities for an inoperable Containment Pressure—High High channel. TS 3.3.6, “Containment Ventilation Isolation Instrumentation,” was revised to correct an error related to table references.

Date of issuance: March 7, 2011.

Effective date: As of the date of issuance and shall be implemented within 60 days.

Amendment No. 225.

Renewed Facility Operating License No. DPR-23. Amendment revised the Technical Specifications.

Date of initial notice in Federal Register: June 1, 2010 (75 FR 30443). The supplement dated June 8 and August 26, 2004, provided additional information that clarified the application, did not expand the scope of the application as originally noticed, and did not change the staff's original proposed no significant hazards consideration determination as published in the Federal Register.

The Commission's related evaluation of the amendment is contained in a Safety Evaluation dated March 7, 2011.

No significant hazards consideration comments received: No.

Entergy Nuclear Vermont Yankee, LLC and Entergy Nuclear Operations, Inc., Docket No. 50-271, Vermont Yankee Nuclear Power Station, Vernon, Vermont

Date of amendment request: April 13, 2010.

Description of amendment request: The amendment would revise Technical Specification to institute a requirement to perform a Logic System Functional Test of the Control Rod Block actuation instrumentation trip functions once every Operating Cycle.

Date of Issuance: February 23, 2011.

Effective date: As of the date of issuance, and shall be implemented within 60 days.

Amendment No.: 246.

Facility Operating License No. DPR-28: Amendment revised the License and Technical Specifications.

Date of initial notice in Federal Register: June 29, 2010 (75 FR 37474).

The Commission's related evaluation of this amendment is contained in a Safety Evaluation dated February 23, 2011.

No significant hazards consideration comments received: No.

Entergy Operations, Inc., Docket No. 50-382, Waterford Steam Electric Station, Unit 3, St. Charles Parish, Louisiana

Date of amendment request: February 22, 2010, as supplemented by letters dated August 12, November 23, and December 21, 2010, and January 24, 2011.

Brief description of amendment: Entergy Operations, Inc. (the licensee), was planning to replace the two Waterford Steam Electric Station, Unit 3 (Waterford 3) steam generators (SGs) during the forthcoming spring 2011 refueling outage. Based on design changes in the replacement SGs, piping systems will require rerouting in the SG cavity area. The rerouting of SG blowdown line cannot be effectively performed without removing the existing dynamic protection associated with the pressurizer surge line. The amendment approved revision of the Waterford 3 Final Safety Analysis Report (FSAR) to allow the removal of pipe break dynamic protection associated with the pressurizer surge line using leak-before-break methodologies. The licensee will include the revised information in the FSAR in the next periodic update in accordance with paragraph 50.71(e) of Title 10 of the Code of Federal Regulations. The licensee deferred its planned SG replacement until the fall 2012 refueling outage.

Date of issuance: February 28, 2011.

Effective date: As of the date of issuance and shall be implemented 90 days from the date of issuance.

Amendment No.: 232.

Facility Operating License No. NPF-38: The amendment revised the Facility Operating License and the Final Safety Analyses Report.

Date of initial notice in Federal Register: April 20, 2010 (75 FR 20632). The supplemental letters dated August 12, November 23, and December 21, 2010, and January 24, 2011, provided additional information that clarified the application, did not expand the scope of the application as originally noticed, and did not change the staff's original proposed no significant hazards consideration determination as published in the Federal Register.

The Commission's related evaluation of the amendment is contained in a Safety Evaluation dated February 28, 2011.

No significant hazards consideration comments received: No.

Exelon Generation Company, LLC, Docket Nos. STN 50-456 and STN 50-457, Braidwood Station, Units 1 and 2, Will County, Illinois

Date of application for amendment: February 15, 2010, as supplemented by letter dated August 19, 2010.

Brief description of amendment: The amendment relocates selected Surveillance Requirement frequencies from the Braidwood Station, Units 1 and 2 Technical Specifications (TSs) to a licensee-controlled program. This change is based on the NRC-approved Industry Technical Specifications Task Force (TSTF) change TSTF-425, “Relocate Surveillance Frequencies to Licensee Control—Risk Informed Technical Specification Task Force (RITSTF) Initiative 5b,” Revision 3, (ADAMS Accession Package No. ML090850642).

Date of issuance: February 24, 2011.

Effective date: As of the date of issuance and shall be implemented within 120 days.

Amendment Nos.: 165/165.

Facility Operating License Nos. NPF-72 and NPF-77: The amendment revised the Technical Specifications and License.

Date of initial notice in Federal Register: April 20, 2010 (75 FR 20635).

The August 19, 2010, supplement contained clarifying information and did not change the NRC staff's initial proposed finding of no significant hazards consideration.

The Commission's related evaluation of the amendments is contained in a Safety Evaluation dated February 24, 2011.

No significant hazards consideration comments received: No.

Exelon Generation Company, LLC, Docket Nos. STN 50-454 and STN 50-455, Byron Station, Unit Nos. 1 and 2, Ogle County, Illinois

Date of application for amendment: February 15, 2010, as supplemented by letter dated August 19, 2010.

Brief description of amendment: The amendment relocates selected Surveillance Requirement frequencies from the Byron Station, Unit Nos. 1 and 2 Technical Specifications (TSs) to a licensee-controlled program. This change is based on the NRC-approved Industry Technical Specifications Task Force (TSTF) change TSTF-425, “Relocate Surveillance Frequencies to Licensee Control—Risk Informed Technical Specification Task Force (RITSTF) Initiative 5b,” Revision 3, (ADAMS Accession Package No. ML090850642).

Date of issuance: February 24, 2011.

Effective date: As of the date of issuance and shall be implemented within 120 days.

Amendment Nos.: 171/171.

Facility Operating License Nos. NPF-37 and NPF-66: The amendment revised the Technical Specifications and License.

Date of initial notice in Federal Register: April 20, 2010 (75 FR 20634). The August 19, 2010, supplement contained clarifying information and did not change the NRC staff's initial proposed finding of no significant hazards consideration.

The Commission's related evaluation of the amendments is contained in a Safety Evaluation dated February 24, 2011.

No significant hazards consideration comments received: No.

Exelon Generation Company, LLC, Docket Nos. 50-237 and 50-249, Dresden Nuclear Power Station (DNPS), Units 2 and 3, Grundy County, Illinois

Date of amendment request: February 16, 2010, as supplanted by letter dated June 22, 2010.

Description of amendment request: The proposed amendments would modify the DNPS Units 2 and 3, Technical Specifications (TSs) by relocating specific surveillance frequencies to a licensee-controlled program with the adoption of Technical Specification Task Force (TSTF)-425, “Relocate Surveillance Frequencies to Licensee Control—Risk Informed Technical Specification Task Force (RITSTF) Initiative 5b,” Revision 3. Additionally, the change would add a new program, the “Surveillance Frequency Control Program [SFCP],” to TS Section 5, “Administrative Controls.”

Date of issuance: February 25, 2011.

Effective date: As of the date of issuance and shall be implemented within 120 days.

Amendment Nos.: 237/230.

Facility Operating License Nos. DPR-19 and DPR-25: The amendment revised the Technical Specifications and License.

Date of initial notice in Federal Register: April 20, 2010 (75 FR 20636).

The Commission's related evaluation of the amendments is contained in a Safety Evaluation dated February 25, 2011.

No significant hazards consideration comments received: No.

Exelon Generation Company, LLC, Docket Nos. 50-373 and 50-374, LaSalle County Station, Units 1 and 2, LaSalle County, Illinois

Date of application for amendments: February 15, 2010, as supplemented by letters dated April 26, June 23, and August 3, 2010.

Brief description of amendments: The amendments relocate selected Surveillance Requirement frequencies from the LaSalle County Station Units 1 and 2 Technical Specifications (TSs) to a licensee-controlled program. This change is based on the NRC-approved Industry Technical Specifications Task Force (TSTF) change TSTF-425, “Relocate Surveillance Frequencies to Licensee Control—Risk Informed Technical Specification Task Force (RITSTF) Initiative 5b,” Revision 3, (ADAMS Accession Package No. ML090850642).

Date of issuance: February 24, 2011.

Effective date: As of the date of issuance and shall be implemented within 120 days.

Amendment Nos.: 200/187.

Facility Operating License Nos. NPF-11 and NPF-18: The amendments revised the Technical Specifications and License.

Date of initial notice in Federal Register: April 20, 2010 (75 FR 20636).

The April 26, June 23, and August 3, 2010, supplements contained clarifying information and did not change the NRC staff's initial proposed finding of no significant hazards consideration.

The Commission's related evaluation of the amendments is contained in a Safety Evaluation dated February 24, 2011.

No significant hazards consideration comments received: No.

FirstEnergy Nuclear Operating Company, et al., Docket No. 50-412, Beaver Valley Power Station, Unit No. 2, Beaver County, Pennsylvania

Date of application for amendment: February 26, 2010, as supplemented November 10, 2010 and January 26, 2011.

Brief description of amendment: The amendment revised the scope of the steam generator tubesheet inspections and subsequent repair using the F* inspection methodology.

Date of issuance: February 24, 2011.

Effective date: As of the date of issuance to be implemented within 60 days.

Amendment No: 172.

Facility Operating License No. NPF-73: The amendment revised the License and Technical Specifications.

Date of initial notice in Federal Register: January 11, 2011 (76 FR 1648). The supplements dated November 10, 2010 and January 27, 2011, provided additional information that clarified the application, did not expand the scope of the application as originally noticed, and did not change the NRC staff's original proposed no significant hazards consideration determination as published in the Federal Register.

The Commission's related evaluation of the amendment is contained in a Safety Evaluation dated February 24, 2011.

No significant hazards consideration comments received: No.

Florida Power and Light Company, Docket Nos. 50-250 and 50-251, Turkey Point Plant, Units 3 and 4, Miami-Dade County, Florida

Date of application for amendments: February 16, 2010, as supplemented September 21, and December 2, 2010, and February 2, 2011.

Brief description of amendments: The amendments revised the Technical Specifications (TSs) by deleting TS 3/4.9.7, “Crane Travel—Spent Fuel Storage Areas,” retaining the operational limits associated with TS 3/4.9.7 in licensee controlled documents, and deleting TS 3/4.9.12, “Handling of Spent Fuel Cask.” Part of the basis for the change is the proposed installation of a new single-failure-proof spent fuel cask handling crane meeting the requirements of NUREG-0554, “Single-Failure-Proof Cranes for Nuclear Power Plants,” May 1979.

Date of issuance: February 25, 2011.

Effective date: As of the date of issuance and shall be implemented within 60 days of issuance.

Amendment Nos: 243 (Unit 3) and 239 (Unit 4).

Renewed Facility Operating License Nos. DPR-31 and DPR-41: Amendments revised the TSs.

Date of initial notice in Federal Register: May 18, 2010 (75 FR 27831).

The supplements dated September 21, 2010, December 2, 2010, and February 2, 2011, provided additional information that clarified the application, did not expand the scope of the application as originally noticed, and did not change the staff's original proposed no significant hazards consideration determination as published in the Federal Register.

The Commission's related evaluation of the amendments is contained in a Safety Evaluation dated February 25, 2011.

No significant hazards consideration comments received: No.

Nebraska Public Power District, Docket No. 50-298, Cooper Nuclear Station, Nemaha County, Nebraska

Date of amendment request: February 25, 2010.

Brief description of amendment: The amendment revised Technical Specification (TS) Surveillance Requirement (SR) 3.8.1.9, Diesel Generator (DG) Load Test, in TS 3.8.1, “AC [Alternating Current] Sources—Operating,” to correct a non-conservative power factor value. In addition, this amendment added a new note to SR 3.8.1.9 consistent with Technical Specifications Task Force (TSTF) change traveler TSTF-276-A, Revision 2, “Revise DG full load rejection test.” This note allows the DG Load Test to be performed at the specified power factor with clarifications addressing situations when the power factor cannot be achieved.

Date of issuance: February 28, 2011.

Effective date: As of the date of issuance and shall be implemented within 60 days of issuance.

Amendment No.: 237.

Renewed Facility Operating License No. DPR-46: Amendment revised the Facility Operating License and Technical Specifications.

Date of initial notice in Federal Register: April 20, 2010 (75 FR 20639).

The Commission's related evaluation of the amendment is contained in a Safety Evaluation dated February 28, 2011.

No significant hazards consideration comments received: No.

NextEra Energy Duane Arnold, LLC, Docket No. 50-331, Duane Arnold Energy Center, Linn County, Iowa

Date of application for amendment: August 12, 2010.

Brief description of amendment: The amendment modifies the Duane Arnold Energy Center (DAEC) Technical Specification (TS) requirements for unavailable barriers in accordance with the adoption of Technical Specification Task Force (TSTF) Traveler TSTF-427.

Date of issuance: February 28, 2011.

Effective date: As of the date of issuance and shall be implemented within 60 days.

Amendment No.: 277.

Renewed Facility Operating License No. DPR-49: The amendment revised the Technical Specifications.

Date of initial notice in Federal Register: December 14, 2010 (75 FR 77914).

The Commission's related evaluation of the amendment is contained in a Safety Evaluation dated February 28, 2011.

No significant hazards consideration comments received: No.

PSEG Nuclear LLC, Docket No. 50-354, Hope Creek Generating Station, Salem County, New Jersey.

Date of application for amendment: March 19, 2010, as supplemented by letters dated July 28, 2010, and January 10, 2011.

Brief description of amendment: The amendment modifies the Technical Specifications (TSs) by relocating specific surveillance frequencies to a licensee-controlled program. The changes are based on Nuclear Regulatory Commission-approved TS Task Force (TSTF) change TSTF-425, Revision 3, “Relocate Surveillance Frequencies to Licensee Control—RITSTF [Risk-Informed TSTF] Initiative 5b.”

Date of issuance: February 25, 2011.

Effective date: As of the date of issuance, to be implemented within 120 days.

Amendment No.: 187.

Facility Operating License No. NPF-57: The amendment revised the TSs and the License.

Date of initial notice in Federal Register: June 15, 2010 (75 FR 33842).

The letters dated July 28, 2010, and January 10, 2011, provided clarifying information that did not change the initial proposed no significant hazards consideration determination or expand the application beyond the scope of the original Federal Register notice.

The Commission's related evaluation of the amendment is contained in a Safety Evaluation dated February 25, 2011.

No significant hazards consideration comments received: No.

Tennessee Valley Authority, Docket No. 50-390, Watts Bar Nuclear Plant (WBN), Unit 1, Rhea County, Tennessee

Date of application for amendment: May 28, 2010, as supplemented December 1, 2010.

Brief description of amendment: The amendment revised Technical Specification (TS) 4.2.2 “Control Rod Assemblies,” to include silver-indium-cadmium material in addition to the boron carbide control rod material.

Date of issuance: February 25, 2011.

Effective date: As of the date of issuance and shall be implemented no later than 90 days from date of issuance.

Amendment No.: 86.

Facility Operating License No. NPF-90: Amendment revised the License and TSs.

Date of initial notice in Federal Register: July 27, 2010 (75 FR 44026). TVA's supplement dated December 1, 2010, provided additional information that clarified the application, did not expand the scope of the application as originally noticed proposed and did not change the staff's original proposed no significant hazards determination as published in the Federal Register.

The Commission's related evaluation of the amendment is contained in a Safety Evaluation dated February 25, 2011.

No significant hazards consideration comments received: No.

Wolf Creek Nuclear Operating Corporation, Docket No. 50-482, Wolf Creek Generating Station (WCGS), Coffey County, Kansas

Date of amendment request: April 13, 2010, as supplemented by letters dated June 1, 2010, and February 17, 2011.

Brief description of amendment: The amendment revised the approved fire protection program, as described in the response to Question Q280.5 of the WCGS Updated Safety Analysis Report, by removing the high/low pressure interface designation of the pressurizer power-operated relief valves and their associated block valves. The amendment also revised license condition 2.C.(5)(a) to include the change approved by this amendment request.

Date of issuance: March 9, 2011.

Effective date: As of its date of issuance and shall be implemented within 90 days of the date of issuance.

Amendment No.: 193.

Renewed Facility Operating License No. NPF-42: The amendment revised the operating license and approved fire protection program, as described in the WCGS Updated Safety Analysis Report.

Date of initial notice in Federal Register: June 29, 2010 (75 FR 37477). The supplemental letter dated February 17, 2011, provided additional information that clarified the application, did not expand the scope of the application as originally noticed, and did not change the staff's original proposed no significant hazards consideration determination as published in the Federal Register. The supplemental letter dated June 1, 2010, was included in the original notice.

The Commission's related evaluation of the amendment is contained in a Safety Evaluation dated March 9, 2011.

No significant hazards consideration comments received: No.

Dated at Rockville, Maryland, this 11th day of March 2011.
For the Nuclear Regulatory Commission.
Joseph G. Giitter,
Director, Division of Operating Reactor Licensing, Office of Nuclear Reactor Regulation.

[FR Doc. 2011-6825 Filed 3-21-11; 8:45 am]

BILLING CODE 7590-01-P